FEDERAL RESERVE SYSTEM

Formations of, Acquisitions by, and Mergers of Bank Holding Companies; Correction

This notice corrects a notice (FR Doc. E6-9670) published on page 35423 of the issue for Tuesday, June 20, 2006.

Under the Federal Reserve Bank of Chicago, the entry for NRBC Holding Corporation, Chicago, Illinois, is revised to read as follows:

A. Federal Reserve Bank of Chicago (Patrick M. Wilder, Assistant Vice President) 230 South LaSalle Street, Chicago, Illinois 60690-1414:

NRBC Holding Corporation, Chicago, Illinois; to become a bank holding company by acquiring 100 percent of the outstanding shares of The National Republic Bank of Chicago, Chicago, Illinois.

Comments on this application must be received by July 14, 2006.

Board of Governors of the Federal Reserve System, June 29, 2006.
Robert deV. Frierson,
Deputy Secretary of the Board.

[FR Doc. E6-10438 Filed 7-3-06; 8:45 am]

BILLING CODE 6210-01-S